NATIONAL SCIENCE FOUNDATION

National Science Board; Workshop on Hurricane Science and Engineering

Date and Time: February 7, 2006, 8 a.m.-5:15 p.m. (MT).

Place: National Center for Atmospheric Research, Center Green Campus, Boulder, Colorado.

Contact Information: Please refer to the National Science Board Web site (http://www.nsf.gov/nsb) for updated Agenda. NSB Office: Mrs. Susan E. Fannoney (703) 292-7000.

Status: This Workshop will be open to the public.

Provisional Agenda

Toward a National Agenda for Hurricane Science and Engineering

Workshop #2: The Research Community

8 a.m. Welcoming Remarks

• Dr. Warren M. Washington, Chairman, National Science Board

8:05 a.m. Motivation, Purpose and Goals

• Drs. Kelvin K. Droegemeier and Ken Ford, National Science Board Members and co-Chairs of Board Task Force on Hurricane Science and Engineering

8:20 a.m. Process and Logistics for NSB Workshops

• Dr. Michael Crosby, Executive Officer, National Science Board

8:30 a.m. Panel Session I: Physical, Biological and Ecological Sciences

9:30 a.m. Roundtable Discussion

10 a.m. Break

10:15 a.m. Panel Session II: Social, Behavioral and Economic Sciences

11:15 a.m. Roundtable Discussion

11:45 a.m. Break

1 p.m. Panel Session III: Engineering and Infrastructure

2 p.m. Roundtable Discussion

2:30 p.m. Break-Out Groups (Sessions I, II, III)

4 p.m. Break-Out Group Reports and Discussion 5 p.m. Summary and Next Steps

5:15 p.m. Adjourn

Michael P. Crosby,
Executive Officer and NSB Office Director.

[FR Doc. E6-1374 Filed 2-1-06; 8:45 am]

BILLING CODE 7555-01-P